ENVIRONMENTAL PROTECTION AGENCY

40 CFR Part 52

[ID-02-003; FRL-7825-3]

Approval and Promulgation of Air Quality Implementation Plans; Idaho; Correcting Amendments

AGENCY: Environmental Protection Agency (EPA).

ACTION: Final rule; correcting amendments.

SUMMARY: This action corrects the incorporation by reference provisions in the approval of the Idaho PM10 State Implementation Plan (SIP) maintenance plan for the Ada County/Boise, Idaho area published on October 27, 2003.

DATES: This action is effective November 1, 2004.

ADDRESSES: Copies of the supporting documentation used in developing this action and the action being corrected are available for inspection during normal business hours at the following locations: U.S. Environmental Protection Agency, Region 10, Office of Air, Waste and Toxics (AWT-107), 1200 Sixth Avenue, Seattle, Washington 98101; Idaho Operations Office, 1435 North Orchard Street, Boise, Idaho 83706.

FOR FURTHER INFORMATION CONTACT: Colleen Huck at (206) 553-1770 or Donna Deneen at (206) 553-6706 or at the above EPA, Region 10 address.

SUPPLEMENTARY INFORMATION: On October 27, 2003, (68 FR 61106), EPA approved an Idaho SIP maintenance plan which addressed the attainment and maintenance of the National Ambient Air Quality Standard (NAAQS) for PM10 in the Ada County/Boise, Idaho area. PM10 air pollution is suspended particulate matter with a diameter less than or equal to a nominal ten micrometers.

In approving the Ada County/Boise, Idaho PM10 maintenance plan, EPA incorporated by reference specific permit conditions limiting particulate matter emissions for a number of facilities in the Ada County/Boise Idaho area (68 FR 61110). In doing so, EPA inadvertently incorporated by reference permit conditions relating to the installation of a beet cleaning system, a transformer evaporator, and mill heaters in the State of Idaho Air Pollution Operating Permit for the Amalgamated Sugar Company LLC, Permit No. 027-00010, issued September 30, 2002.

Idaho subsequently provided information to EPA indicating that the installation of the beet cleaning system, transformer evaporator, and mill heaters are preliminary steps required for installation and operation of a steam dryer system and, based on its analysis, should have no impact on actual or potential PM10 emissions rates. Based on the State's information, EPA has determined that the permit conditions addressing the installations were unnecessarily incorporated by reference for the Ada County/Boise, Idaho PM10 maintenance plan. This action corrects the incorporation by reference of these conditions. Specifically, this action removes permit conditions 13.5, 13.5.2, 13.5.3, 13.6, 13.6.1, and 13.6.2 and provisions 13.5 and 13.6 in Table 13.1 from the list of permit conditions that are incorporated by reference. The incorporation by reference of the deadline for the installation and operation of the steam dryer system, which will result in a reduction of the rate of pollutants emitted by the facility, has not changed.

Section 553 of the Administrative Procedure Act, 5 U.S.C. 553(b)(B), provides that, when an agency for good cause finds that notice and public procedure are impracticable, unnecessary or contrary to the public interest, the agency may issue a rule without providing notice and an opportunity for public comment. EPA has determined that there is good cause for making today's rule final without prior proposal and opportunity for comment because EPA is merely correcting a previous rulemaking action that had been subject to notice and comment procedures. Thus, notice and public procedure are unnecessary. EPA finds that this constitutes good cause under 5 U.S.C. 553(b)(B).

Moreover, since today's action does not create any new regulatory requirements, EPA finds that good cause exists to provide for an immediate effective date pursuant to 5 U.S.C. 553(d)(3).

Statutory and Executive Order Reviews

Under Executive Order 12866 (58 FR 51735, October 4, 1993), this action is not a “significant regulatory action” and therefore is not subject to review by the Office of Management and Budget. For this reason, this action is also not subject to Executive Order 13211, “Actions Concerning Regulations That Significantly Affect Energy Supply, Distribution, or Use” (66 FR 28355, May 22, 2001). Because the agency has made a “good cause” finding that this action is not subject to notice-and-comment requirements under the Administrative Procedure Act or any other statute, it is not subject to the regulatory flexibility provisions of the Regulatory Flexibility Act (5 U.S.C. 601 et seq.) or to sections 202 and 205 of the Unfunded Mandates Reform Act of 1995 (UMRA) (Pub. L. 104-4). In addition, this action does not significantly or uniquely affect small governments or impose a significant intergovernmental mandate, as described in sections 203 and 204 of UMRA.

This corrective action also does not have tribal implications because it will not have a substantial direct effect on one or more Indian tribes, on the relationship between the Federal Government and Indian tribes, or on the distribution of power and responsibilities between the Federal Government and Indian tribes, as specified by Executive Order 13175 (65 FR 67249, November 9, 2000). This action will not have substantial direct effects on the States, on the relationship between the national government and the States, or on the distribution of power and responsibilities among the various levels of government, as specified in Executive Order 13132 (64 FR 43255, August 10, 1999). This action also is not subject to Executive Order 13045 “Protection of Children from Environmental Health Risks and Safety Risks” (62 FR 19885, April 23, 1997), because it is not economically significant.

This corrective action does not involve technical standards; thus, the requirements of section 12(d) of the National Technology Transfer and Advancement Act of 1995 (15 U.S.C. 272 note) do not apply. This action does not impose an information collection burden under the provisions of the Paperwork Reduction Act of 1995 (44 U.S.C. 3501 et seq.).

The Congressional Review Act (CRA), 5 U.S.C. 801 et seq., as added by the Small Business Regulatory Enforcement Fairness Act of 1996, generally provides that before a rule may take effect, the agency promulgating the rule must submit a rule report, which includes a copy of the rule, to each House of the Congress and to the Comptroller General of the United States. Section 808 allows the issuing agency to make a rule effective sooner than otherwise provided by the CRA if the agency makes a good cause finding that notice and public procedure is impracticable, unnecessary or contrary to the public interest. This determination must be supported by a brief statement. 5 U.S.C. 808(2). As stated previously, EPA has made such a good cause finding, including the reasons therefor, and established an effective date of November 1, 2004. EPA will submit a report containing this rule and other required information to the U.S. Senate, the U.S. House of Representatives, and the Comptroller General of the United States prior to publication of the rule in the Federal Register. This action is not a “major rule” as defined by 5 U.S.C. 804(2).

Under section 307(b)(1) of the Clean Air Act, petitions for judicial review of this action must be filed in the United States Court of Appeals for the appropriate circuit by January 3, 2005. Filing a petition for reconsideration by the Administrator of this final rule does not affect the finality of this rule for the purposes of judicial review nor does it extend the time within which a petition for judicial review may be filed, and shall not postpone the effectiveness of such rule or action. This action may not be challenged later in proceedings to enforce its requirements. (See section 307(b)(2).)

List of Subjects in 40 CFR Part 52

Environmental protection, Air pollution control, Incorporation by reference, Intergovernmental relations, Particulate matter, Reporting and recordkeeping requirements.

Dated: September 27, 2004.
Ronald A. Kreizenbeck,
Acting Regional Administrator, Region 10.

Chapter I, title 40 of the Code of Federal Regulations is amended as follows:

PART 52—[AMENDED]

1. The authority citation for Part 52 continues to read as follows:

Authority: 42 U.S.C. 7401 et seq.

Subpart N—Idaho

2. Section 52.670 is amended by revising paragraph (c)(38)(i)(A)(12) to read as follows:

§ 52.670 Identification of Plan.

* * * * *

(a) * * *

(38) * * *

(i) * * *

(A) * * *

(12) State of Idaho Air Pollution Operating Permit for The Amalgamated Sugar Company LLC, Permit No. 027-00010, issued September 30, 2002, the following conditions: 2 (heading only), (2.7, Table 2.2 as it applies to PM10), 2.10, 2.10.1, 2.10.2, 2.11, 2.11.1, 2.11.2, 2.11.3, 2.11.4, 2.11.5, 2.12, 2.12.1, 2.12.2, 2.12.3, 2.13, 2.13.1, 2.13.2, 2.13.3, 2.14, 2.14.1, 2.14.2, 2.16, 3 (heading only), (3.3, Table 3.2 as it applies to PM10), 3.5, 3.7, 3.8, 3.8.1, 3.8.2, 3.8.3, 3.8.4, 3.8.5, 3.8.6, 3.8.7, 3.8.8, 3.9, 4 (heading only), (4.3, Table 4.1 as it applies to PM10), 4.5, 4.6, 4.7, 5 (heading only), (5.3, Table 5.3 as it applies to PM10), 5.5, 5.9, 5.9.1, 5.9.2, 5.9.3, 5.9.4, 5.9.5, 5.9.6, 5.9.7, 5.9.8, 5.9.9, 5.10, 5.11, 6 (heading only), 6.3, Table 6.1, 6.5, 6.6, 6.7, 6.7.1, 6.7.2, 6.8, 7 (heading only), (7.3, Table 7.1 as it applies to PM10), 7.5, 7.7, 7.7.1, 7.7.2, 7.8, 8 (heading only), 8.3, Table 8.1, 8.5, 8.7, 8.7.1, 8.7.2, 8.8, 9 (heading only), 9.3, Table 9.1, 9.5, 9.7, 9.7.1, 9.7.2, 9.8, 10 (heading only), 10.3, Table 10.1, 10.6, 10.8, 10.8.1, 10.8.2, 10.9, 11 (heading only), 11.3, Table 11.2, 11.6, 11.8, 11.8.1, 11.8.2, 11.9, 12 (heading only), 12.3, Table 12.1, 12.5, 12.7, 12.7.1, 12.7.2, 12.8, 13 (heading only), 13.1 (except as it applies to conditions 13.3, 13.3.1, 13.3.2, 13.5, 13.5.1, 13.5.2, 13.5.3, 13.6, 13.6.1, 13.6.2 and 13.9), Table 13.1 (except conditions 13.3, 13.5 and 13.6), (13.2, Table 13.2 as it applies to PM10), 13.2.1, 13.4, 13.4.1, 13.4.2, 13.4.3, 13.7, 13.7.1, 13.7.2, 13.8, 13.8.1, 13.8.2, 13.8.3, 13.10, and 13.11.

[FR Doc. 04-24333 Filed 10-29-04; 8:45 am]

BILLING CODE 6560-50-P